DEPARTMENT OF THE TREASURY

Internal Revenue Service

Open Meeting of the Taxpayer Advocacy Panel Taxpayer Communications Project Committee

AGENCY: Internal Revenue Service (IRS), Treasury.

ACTION: Notice of meeting; correction.

SUMMARY: In the Federal Register notice that was originally published on April 14, 2016, (Volume 81, Number 72, Page 22166) the time was written as 3:00 p.m. EST instead of 2:00 p.m. EST. The meeting time is: 2:00 p.m. EST, Thursday, May 19, 2016.

DATES: The meeting will be held Thursday, May 19, 2016.

FOR FURTHER INFORMATION CONTACT: Antoinette Ross at 1-888-912-1227 or (202) 317-4110.

SUPPLEMENTARY INFORMATION: Notice is hereby given pursuant to Section 10(a)(2) of the Federal Advisory Committee Act, 5 U.S.C. App. (1988) that an open meeting of the Taxpayer Advocacy Panel Taxpayer Communications Project Committee will be held Thursday, May 19, 2016, at 2:00 p.m. Eastern Time via teleconference. The public is invited to make oral comments or submit written statements for consideration. Due to limited conference lines, notification of intent to participate must be made with Antoinette Ross. For more information please contact: Antoinette Ross at 1-888-912-1227 or (202) 317-4110, or write TAP Office, 1111 Constitution Avenue NW., Room 1509—National Office, Washington, DC 20224, or contact us at the Web site: http://www.improveirs.org.

The committee will be discussing various issues related to Taxpayer Communications and public input is welcome.

Dated: April 21, 2016.
Antoinette Ross,
Acting Director, Taxpayer Advocacy Panel.

[FR Doc. 2016-09764 Filed 4-26-16; 8:45 am]

BILLING CODE 4830-01-P